DEPARTMENT OF COMMERCE

International Trade Administration

[C-570-130]

Certain Walk-Behind Lawn Mowers and Parts Thereof From the People's Republic of China: Final Results of Countervailing Duty Administrative Review; 2020-2021

AGENCY: Enforcement and Compliance, International Trade Administration, Department of Commerce.

SUMMARY: The U.S. Department of Commerce (Commerce) determines that Ningbo Daye Garden Machinery Co., Ltd. (Ningbo Daye), a producer/exporter of certain walk-behind lawn mowers and parts thereof (lawn mowers) from the People's Republic of China (China), received countervailable subsidies during the period of review (POR), October 30, 2020, through December 31, 2021.

DATES: Applicable February 6, 2024.

FOR FURTHER INFORMATION CONTACT: Natasia Harrison or Harrison Tanchuck, AD/CVD Operations, Office VI, Enforcement and Compliance, International Trade Administration, U.S. Department of Commerce, 1401 Constitution Avenue NW, Washington, DC 20230; telephone: (202) 482-1240 or (202) 482-7421, respectively.

SUPPLEMENTARY INFORMATION:

Background

On August 3, 2023, Commerce published the Preliminary Results of this administrative review in the Federal Register and invited interest parties to comment.¹ We received timely-filed case briefs from the Government of China (GOC) and Ningbo Daye.² On November 17, 2023, Commerce extended the deadline for issuing these final results to January 30, 2024.³ For a complete description of the events that occurred since the publication of the Preliminary Results, see the Issues and Decision Memorandum.⁴

¹ See Certain Walk-Behind Lawn Mowers and Parts Thereof from the People's Republic of China: Preliminary Results of Countervailing Duty Administrative Review and Rescission of Review, in Part; 2020-2021, 88 FR 51269 (August 3, 2023) (Preliminary Results), and accompanying Preliminary Decision Memorandum (PDM).

² See GOC's Letter, “Case Brief,” dated September 12, 2023; Ningbo Daye's Letter, “Ningbo Daye's Case Brief,” dated September 12, 2023.

³ See Memorandum, “Extension of Deadline for Final Results of Countervailing Duty Administrative Review; 2020-2021,” dated November 17, 2023.

⁴ See Memorandum, “Issues and Decision Memorandum for the Final Results of the Countervailing Duty Administrative Review of Certain Walk-Behind Lawn Mowers and Parts Thereof from the People's Republic of China; 2020-2021,” dated concurrently with, and hereby adopted by, this notice (Issues and Decision Memorandum).

Scope of the Order ⁵

⁵ See Certain Walk-Behind Lawn Mowers and Parts Thereof from the People's Republic of China: Countervailing Duty Order and Amended Final Affirmative Countervailing Duty Determination, 86 FR 36702 (July 13, 2021) (Order).

The merchandise covered by the Order is lawn mowers from China. For a complete description of the scope of the Order, see the Issues and Decision Memorandum.⁶

⁶ See Issues and Decision Memorandum at 2-3.

Analysis of Comments Received

All issues raised by interested parties in their case briefs are addressed in the Issues and Decision Memorandum. A list of the topics discussed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received from interested parties and the evidence on the record, we revised the calculation of the net countervailable subsidy rate for Ningbo Daye. For a full description of these revisions, see the Issues and Decision Memorandum.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁷ For a full description of the methodology underlying Commerce's conclusions, including any determination that relied upon the use of adverse facts available, pursuant to sections 776(a) and (b) of the Act, see the Issues and Decision Memorandum.

⁷ See sections 771(5)(B) and (D) of the Act regarding financial contribution; section 771(5)(E) of the Act regarding benefit; and section 771(5A) of the Act regarding specificity.

Final Results of Administrative Review

We determine the following net countervailable subsidy rate exists for the period October 30, 2020, through December 31, 2021:

⁸ This rate applies to Ningbo Daye and its cross-owned companies: Zhejiang Jindaye Holdings Limited and Ningbo Lingyue.

Company | Subsidy rate for the period October 30, 2020, through December 31, 2020 (percent ad valorem) | Subsidy rate for the period January 1, 2021, through December 31, 2021 (percent ad valorem)
Ningbo Daye Garden Machinery Co., Ltd.⁸ | 9.12 | 8.57

Disclosure

Commerce intends to disclose to the calculations performed in connection with the final results of review within five days of a public announcement or, if there is no public announcement, within five days of the date of publication of the notice of final results in the Federal Register, in accordance with 19 CFR 351.224(b).

Assessment Rates

Pursuant to section 751(a)(2)(C) of the Act and 19 CFR 351.212(b)(2), Commerce has determined, and U.S. Customs and Border Protection (CBP) shall assess, countervailing duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amount indicated above for the period January 1, 2021, through December 31, 2021, on shipments of subject merchandise entered, or withdrawn from warehouse, for consumption on or after the date of publication of the final results of this administrative review. For all non-reviewed firms subject to the Order, Commerce will instruct CBP to continue to collect cash deposits of estimated countervailing duties at the most recent company-specific or all-others rate (i.e., 15.95 percent) ⁹ applicable to the company, as appropriate. These cash deposit requirements, effective upon publication of these final results, shall remain in effect until further notice.

⁹ See Order, 86 FR at 36703.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.221(b)(5).

Dated: January 30, 2024.
Abdelali Elouaradia,
Deputy Assistant Secretary for Enforcement and Compliance.

Appendix

List of Topics Discussed in the Issues and Decision Memorandum

I. Summary

II. Background

III. Changes Since the Preliminary Results

IV. Scope of the Order

V. Subsidies Valuation

VI. Interest Rate Benchmarks, Discount Rates, and Benchmarks for Measuring Adequacy of Remuneration

VII. Use of Facts Otherwise Available and Adverse Inferences

VIII. Analysis of Programs

IX. Analysis of Comments

Comment 1: Whether Commerce Should Apply Adverse Facts Available (AFA) to the Export Buyer's Credit Program (EBCP)

Comment 2: Whether Commerce Should Apply AFA to find that the Provision of Electricity for Less Than Adequate Remuneration (LTAR) is Specific

Comment 3: Whether Individually-Owned Cold-Rolled Steel (CRS) Input Suppliers Are Government Authorities

Comment 4: Whether Commerce Should Change the Domestic Inland Freight Benchmarks Used to Measure the Benefit from the Provision of CRS for LTAR

Comment 5: Whether Commerce Made Certain Errors in the Benefit Calculations for the Provision of CRS for LTAR and the Provision of Electricity for LTAR Programs

X. Recommendation

[FR Doc. 2024-02293 Filed 2-5-24; 8:45 am]

BILLING CODE 3510-DS-P